ENVIRONMENTAL PROTECTION AGENCY

[FRL-7010-5]

Notice of Open Meeting; Environmental Financial Advisory Board; August 6-8, 2001

The Environmental Protection Agency's (EPA) Environmental Financial Advisory Board (EFAB) will hold an open meeting of the full Board in San Francisco, California on August 6-7, 2001. The meeting will be held at the Bankers Club, Bank of America World Headquarters Building, Pacific Room. The Monday, August 6 session will run from 9 a.m. 5 p.m. and the Tuesday, August 7 session will begin at 8:30 a.m. and end at approximately 12 noon. The purpose of the August 6-7 meeting is to discuss progress with work products under EFAB's current strategic action agenda and to develop an action agenda to direct the Board's future activities. Environmental financing topics expected to be discussed include: Cost-Effective Environmental Management; Brownfields Redevelopment; International Environmental Financing; Environmental Stewardship; and Financing Water and Wastewater Infrastructure.

On Wednesday, August 8, EFAB is hosting a roundtable on Environmental Stewardship. For some time, EFAB has been considering economic incentives and financial mechanisms that encourage the adoption of sound environmental stewardship practices on private property. The Board will collect information and insights from a group of informed panelists who will share their perspectives on environmental stewardship. The roundtable will begin at 9 a.m. and end at approximately 4:30 p.m. The roundtable is being held at the EPA Region 9 Office, 75 Hawthorne Street, Strategy Room R-1809, 18th Floor, San Francisco, CA.

Both meetings are open to the public, but seating is limited. For further information, please contact Vanessa Bowie, EFAB Coordinator, U.S. EPA on (202) 564-5186.

Dated: July 3, 2001.
Joseph Dillon,
Comptroller.

[FR Doc. 01-17335 Filed 7-10-01; 8:45 am]

BILLING CODE 6560-50-M